DEPARTMENT OF AGRICULTURE

Forest Service

Hood/Willamette Resource Advisory Committee (RAC)

AGENCY: Forest Service, USDA.

ACTION: Notice of meeting.

SUMMARY: The Hood/Willamette Resource Advisory Committee (RAC) will meet on Friday, March 8, 2002. The meeting is scheduled to begin at 9 a.m. and will conclude at approximately 4 p.m. The meeting will be held at the Salem Office of the Bureau of Land Management Office; 1717 Fabry Road SE, Salem, Oregon; (503) 375-5646. The tentative agenda includes: (1) Reviewing and Recommending Projects; (2) Public Forum. The Public Forum is tentatively scheduled to begin at 1 p.m. Time allotted for individual presentations will be limited to 3-4 minutes. Written comments are encouraged, particularly if the material cannot be presented within the time limits for the Public Forum. Written comments may be submitted prior to the March 8 meeting by sending them to Designated Federal Official Donna Short at the address given below.

FOR FURTHER INFORMATION CONTACT: For more information regarding this meeting, contact Designated Federal Official Donna Short; Sweet Home Ranger District; 3225 Highway 20, Sweet Home, Oregon 97386; (541) 367-9220.

Dated: February 12, 2002.
Kim Titus,
Acting Deputy Forest Supervisor.

[FR Doc. 02-4020 Filed 2-19-02; 8:45 am]

BILLING CODE 3410-11-M